DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held March 13, 2008 starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., appendix 2), notice is hereby given for a Program Management Committee meeting. The agenda will include:

March 13:

Opening Session (Welcome and Introductory Remarks, Review/Approve Summary of December 6, 2007 Meeting, Paper No. 021-08/PMC-593)

Publication Consideration/Approval:

Final Draft, New Document, Minimum Operational Performance Standards (MOPS) for Helicopter Terrain Awareness and Warning System (HTAWS) Airborne Equipment, RTCA Paper No. 015-08/PMC-592, prepared by SC-212

Final Draft, New Document, Minimum Operational Performance Standards for Rechargeable Lithium Battery Systems, RTCA Paper 037-OS/PMC-594, prepared by SC-211

Final Draft, New Document, Minimum Operational Performance Standards for GPS Ground-based Regional Augmentation System Airborne Equipment, RTCA Paper No. 040-08/PMC-597, prepared by SC-159

Final Draft, Revised DO-235A, Assessment of Radio Frequency Interference Relevant to the GNSS LI Frequency Band, RTCA Paper No. 039-07/PMC-595, prepared by SC 159

Discussion:

Terrain, Obstacle and Aerodrome Mapping Data—Discussion—Possible New Special Committee

SC-205—Software Considerations—Presentation

Department of Homeland Security eLORAN News Release—Discussion

Special Committee Chairman's Reports

RICA Annual Awards—Review Nominations

Action Item Review:

SC-147—Traffic Alert & Collision Avoidance System-Discussion PMC Ad Hoc Subgroup—Report—New Special Committee Recommendation

SC-203—Unmanned Aircraft Systems (UAS)—Discussion-Status Review—PMC Ad Hoc Subgroup—Report

SC-214—Standards for Air Traffic Data Communications Services—Discussion—Review/Approve Terms of Reference

Closing Session (Other Business, Document Production, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 14, 2008.
Francisco Estrada C.,
RTCA Advisory Committee.

[FR Doc. E8-4519 Filed 3-10-08; 8:45 am]

BILLING CODE 4910-13-M